SURFACE TRANSPORTATION BOARD

[Docket No. FD 36366]

Patton-Lowe RR, Inc.—Acquisition Exemption—Consolidated Rail Corporation

Patton-Lowe RR, Inc. (PLRI), a noncarrier, has filed a verified notice of exemption under 49 CFR 1150.31 to acquire from Consolidated Rail Corporation (Conrail) an approximately 0.37-mile rail line extending from milepost 64.43 at Craig ¹ (east of the at-grade crossing of Indiana SR 46, at a point of connection with the Central Railroad Company of Indiana's (CIND) Westport Industrial Track near CIND milepost 225.0) to milepost 64.80, also at Craig (near the intersection of N County Road 250 W and West Base Road).

¹ Craig is an unincorporated railroad location immediately west of the boundary of the City of Greensburg, Ind.

According to the verified notice of exemption, PLRI is a subsidiary of Lowe's Pellets & Grain, Inc. (Lowe's). PLRI states that CIND had operated over the Line to provide direct rail service to Lowe's for several years but recently declined to provide service, advising Lowe's that it appeared that the Line was owned by Conrail, not CIND. Lowe's created PLRI to purchase the Line from Conrail, which confirmed its ownership of the Line. PLRI states that, although it may elect to provide common carrier service itself should the need arise, it contemplates reaching an accord with CIND under which CIND would resume switching operations over the Line.

PLRI certifies that its projected annual revenues are not expected to exceed $5 million, and will not exceed those that would qualify it as a Class III rail carrier. PLRI further certifies that the proposed transaction does not involve any provision or agreement that would limit future interchange with a third-party connecting carrier.

The transaction may be consummated on or after January 19, 2020, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions to stay must be filed no later than January 10, 2020 (at least seven days before the exemption becomes effective).

All pleadings, referring to Docket No. FD 36366, must be filed with the Surface Transportation Board either via e-filing or in writing addressed to 395 E Street SW, Washington, DC 20423-0001. In addition, a copy of each pleading must be served on PLRI's representative, Robert A. Wimbish, Fletcher & Sippel LLC, 29 North Wacker Drive, Suite 800, Chicago, IL 60606-3208.

According to PLRI, this action is categorically excluded from environmental review under 49 CFR 1105.6(c) and from historic preservation reporting requirements under 49 CFR 1105.8(b)(1).

Board decisions and notices are available at www.stb.gov.

Decided: December 27, 2019.
By the Board, Allison C. Davis, Director, Office of Proceedings.
Eden Besera,
Clearance Clerk.

[FR Doc. 2019-28392 Filed 1-2-20; 8:45 am]

BILLING CODE 4915-01-P